Proclamation 9446 of May 13, 2016

National Defense Transportation Day and National Transportation Week, 2016

By the President of the United States of America

A Proclamation

At the core of our national character is our persistent belief in what we, as a people, can accomplish as one. Connecting every corner of our country and each chapter of our Nation's story, our infrastructure has always played a critical role in helping us solve our shared challenges and in fueling the innovation and productivity that drive our economy. On National Defense Transportation Day and during National Transportation Week, we reflect on the importance of infrastructure throughout our history, and we recognize the need to invest in these essential pathways to our future.

From the National Road envisioned by our Founders to the Interstate Highway System first authorized six decades ago, the history of infrastructure projects in our country reflects the belief that the progress made by each generation is built on the efforts of those who came before. Our investments in transportation systems have not only driven extraordinary and innovative advances, but they have also uplifted our Nation in times of great trial. Authorizing the construction of hundreds of thousands of miles of roads, the Works Progress Administration—established by President Franklin D. Roosevelt—played a major role in lifting our Nation from the depths of the Great Depression. And America would not be what it is today without structures like the Golden Gate Bridge and the Hoover Dam—defining symbols of the daring ingenuity brought about by the grit and unwavering determination of our people.

In our time, it is imperative that we carry forward this legacy by rebuilding our roads, transit lines, bridges, ports, and water systems. That is why my Administration has worked to repair and modernize our transportation infrastructure; connected more individuals, businesses, and communities across our country to high-speed broadband; and called on the Congress to commit to making the long-term investments in our infrastructure on which our country depends. And because there is no greater threat to our planet and to future generations than the peril of a changing climate, I have put forward a plan for creating a 21st Century Clean Transportation System to put us on a course to develop secure, resilient infrastructure that can reduce carbon pollution while strengthening our economy.

Our transportation systems represent important parts of our history and heritage, but they are also critical to our safety and security, and ensuring they are stable and sound for future generations is vital. Our first responders travel our roads to confront danger and save lives; aid workers travel far and wide to bring relief in the wake of tragedy and devastation; and our Armed Forces utilize transportation networks each day to protect our Nation and our values.

This year, we mark 50 years since President Lyndon B. Johnson signed the Department of Transportation Act. Embodying both optimism for the future and a clear understanding of the work needed to shape that future, the founding of the Department of Transportation reminds us that America's progress has never been inevitable, that it has always depended on our people deciding, with boldness and vision, to renew our country's promise. In that spirit, let us reaffirm our commitment to fulfilling this tremendous task in the face of the challenges and opportunities of today and tomorrow.

In recognition of the importance of our Nation's transportation infrastructure, and of the men and women who build, operate, maintain, and utilize it, the Congress has requested, by joint resolution approved May 16, 1957, as amended (36 U.S.C. 120), that the President designate the third Friday in May of each year as “National Defense Transportation Day,” and, by joint resolution approved May 14, 1962, as amended (36 U.S.C. 133), that the week during which that Friday falls be designated as “National Transportation Week.”

NOW, THEREFORE, I, BARACK OBAMA, President of the United States of America, do hereby proclaim Friday, May 20, 2016, as National Defense Transportation Day and May 15 through May 21, 2016, as National Transportation Week. I call upon all Americans to recognize the importance of our Nation's transportation infrastructure and to acknowledge the contributions of those who build, operate, and maintain it.

IN WITNESS WHEREOF, I have hereunto set my hand this thirteenth day of May, in the year of our Lord two thousand sixteen, and of the Independence of the United States of America the two hundred and fortieth.

[FR Doc. 2016-11923

Filed 5-17-16; 11:15 am]

Billing code 3295-F6-P